Proclamation 9537 of October 31, 2016

National Native American Heritage Month, 2016

By the President of the United States of America

A Proclamation

As the First Americans, Native Americans have helped shape the future of the United States through every turn of our history. Today, young American Indians and Alaska Natives embrace open-ended possibility and are determining their own destinies. During National Native American Heritage Month, we pledge to maintain the meaningful partnerships we have with tribal nations, and we renew our commitment to our nation-to-nation relationships as we seek to give all our children the future they deserve.

Over our long shared history, there have been too many unfortunate chapters of pain and tragedy, discrimination and injustice. We must acknowledge that history while recognizing that the future is still ours to write. That is why my Administration remains dedicated to strengthening our government-to-government relationships with tribal nations and working to improve the lives of all our people. Three years ago, I issued an Executive Order establishing the White House Council on Native American Affairs to help ensure the Federal Government engages in true and lasting relationships with tribes and promotes the development of prosperous and resilient tribal communities. Last month, I hosted the eighth Tribal Nations Conference and brought tribal leaders together to identify key issues we still face. We have worked to better protect sacred lands and restored many acres of tribal homelands, as well as supported greater representation of indigenous peoples before the United Nations and called for further implementation of the Declaration of the Rights of Indigenous Peoples. And we have taken steps to strengthen tribal sovereignty in criminal justice matters, including through the Tribal Law and Order Act.

Through the Affordable Care Act and permanent reauthorization of the Indian Health Care Improvement Act, we empowered more Native Americans to access the quality health care they need to live full, healthy lives. Throughout their lives, 84 percent of American Indian and Alaska Native women and girls will experience some form of violence, and in 2013, I signed the reauthorization of the Violence Against Women Act, which allows tribes to prosecute non-Native individuals who commit acts of domestic violence in Indian Country. And through the North American Working Group on Violence Against Indigenous Women and Girls, we are strengthening regional coordination on the rights of women and girls from indigenous communities across the continent.

In recognition of the immeasurable contributions that Native Americans have made to our Nation, we continue to advocate for expanding opportunity across Indian Country. We have supported tribal colleges and universities and worked to return control of education to tribal nations—not only to prepare Native youth for the demands of future employment, but also to promote their own tribal languages and cultures. We are investing in job training and clean-energy projects, infrastructure, and high-speed internet that connects Native American communities to the broader economy. We are connecting more young people and fostering a national dialogue to empower the next generation of Native leaders through the Generation Indigenous initiative. Through www.NativeOneStop.gov, we have also worked to improve coordination and access to Federal services throughout Indian Country. Indian Country still faces many challenges, but we have made significant progress together since I took office, and we must never give up on our pursuit of the ever brighter future that lies ahead.

This month, let us celebrate the traditions, languages, and stories of Native Americans and ensure their rich histories and contributions can thrive with each passing generation. Let us continue to build on the advancements we have made, because enduring progress will depend on our dedication to honoring our trust and treaty responsibilities. With sustained effort and unwavering optimism, we can ensure a vibrant and resilient Indian Country filled with possibility and prosperity.

NOW, THEREFORE, I, BARACK OBAMA, President of the United States of America, by virtue of the authority vested in me by the Constitution and the laws of the United States, do hereby proclaim November 2016 as National Native American Heritage Month. I call upon all Americans to commemorate this month with appropriate programs and activities, and to celebrate November 25, 2016, as Native American Heritage Day.

IN WITNESS WHEREOF, I have hereunto set my hand this thirty-first day of October, in the year of our Lord two thousand sixteen, and of the Independence of the United States of America the two hundred and forty-first.

[FR Doc. 2016-26805

Filed 11-2-16; 11:15 am]

Billing code 3295-F7-P